DEPARTMENT OF HEALTH AND HUMAN SERVICES

Food and Drug Administration

Endocrinologic and Metabolic Drugs Advisory Committee; Amendment of Notice

AGENCY: Food and Drug Administration, HHS.

ACTION: Notice.

SUMMARY: The Food and Drug Administration (FDA) is announcing an amendment to the notice of meeting of the Endocrinologic and Metabolic Drugs Advisory Committee. This meeting was announced in the Federal Register of August 1, 2002 (67 FR 49945). The amendment is being made to reflect a change in the Agenda portion of the document. The meeting was originally scheduled for September 25, 26, and 27, 2002. However, due to administrative complications, the discussions on September 26 and 27, 2002, will be postponed until a later date. There are no other changes.

FOR FURTHER INFORMATION CONTACT: Kathleen Reedy, Center for Drug Evaluation and Research (HFD-21), Food and Drug Administration, 5600 Fishers Lane, Rockville, MD 20857, 301-827-7001, FAX 301-827-6776, or e-mail: reedyk@cder.fda.gov, or FDA Advisory Committee Information Line, 1-800-741-8138 (301-443-0572 in the Washington, DC area), code 12536, for up-to-date information on this meeting.

SUPPLEMENTARY INFORMATION: In the Federal Register of August 1, 2002, FDA announced that a meeting of the Endocrinologic and Metabolic Drugs Advisory Committee would be held on September 25, 26, and 27, 2002. On page 49945, in the first column, the Agenda portion of the meeting is amended to read as follows:

Agenda: On September 25, 2002, the committee will discuss appropriate designs for clinical trials of new osteoporosis treatments.

This notice is issued under the Federal Advisory Committee Act (5 U.S.C. app. 2) and 21 CFR part 14, relating to advisory committees.

Dated: September 23, 2002.
Linda Arey Skladany,
Senior Associate Commissioner for External Relations.

[FR Doc. 02-24561 Filed 9-23-02; 5:02 pm]

BILLING CODE 4160-01-S